DEPARTMENT OF AGRICULTURE

Tribal Advisory Committee; Notice of Solicitation for Nominations

AGENCY: United States Department of Agriculture (USDA).

ACTION: Solicitation for nominations; extension.

SUMMARY: Through this notice, the U.S. Department of Agriculture (USDA) is soliciting nominations for four (4) vacancies on the USDA Tribal Advisory Committee (“the Committee”). The Committee consists of eleven (11) members serving staggered terms. Three members will be appointed by the Secretary of Agriculture for a three-year term and one by the Ranking Member of the House Committee on Agriculture to serve the remainder of the vacancy term ending December 19, 2025. This notice provides a 14 day extension of the notice to solicit nominations for membership published in the Federal Register on August 8, 2025.

DATES: The nomination period announced on August 8, 2025 (90 FR 38431) is extended. Complete nomination packages for membership on the Committee must be received at Tribal.Relations@usda.gov no later than October 6, 2025.

ADDRESSES: Please submit nominations and resumes for recognition and appointment by the Secretary of Agriculture and the Ranking members of the House Committee on Agriculture through Josiah Griffin, Designated Federal Officer, at Tribal.Relations@usda.gov.

FOR FURTHER INFORMATION CONTACT: Inquiries may be sent to, Josiah Griffin, Designated Federal Officer, USDA, Office of Tribal Relations, at Tribal.Relations@usda.gov.

SUPPLEMENTARY INFORMATION:

About the Committee: The Tribal Advisory Committee is established pursuant to section 12303 of the Agriculture Improvement Act of 2018 (Pub. L. 115-334) to advise the Secretary of Agriculture on matters relating to Tribal and Indian Affairs. The TAC defines “Indian affairs” similarly to the SCIA jurisdiction (as defined in Section 25 of S. Res. 71, 103rd Congress, 1st Session), which includes but is not limited to all matters pertaining to American Indian, Native Hawaiian, and Alaska Native peoples. The Committee Chairperson and Vice Chairperson shall be elected by the Committee from among its members.

Eligible Nominators: Nominations may only be submitted by signatories authorized to represent an Indian tribe as defined by 25 U.S.C. 5304, a Tribal organization as defined by 25 U.S.C. 5304, or a national or regional organization with expertise in issues relating to the above duties of the Committee. These organizations include but are not limited to intertribal consortia, national or regional tribal serving organizations, land-grant institutions, and credit institutions such as Native Community Development Financial Institutions. Nominees are not required to represent the nominating entity.

Nomination Packages: Nominating entities must submit a complete nomination package for full consideration. Documents should be typed and must include the below elements. Additional letters of endorsement are optional.

1. Nomination letters. Nomination letters must include a brief summary, no more than two pages, explaining the nominee's qualifications to serve on the Tribal Advisory Committee and addressing the membership composition and criteria described above. The signatory of these letters must be authorized to represent the nominating entity.

2. Resume. A resume providing the nominee's background, experience, and educational qualifications.

3. Background Information Form. A completed Advisory Committee or Research and Promotion Background Information form (AD-755) signed by the nominee available online at https://www.usda.gov/sites/default/files/documents/ad-755-advisory-committee-commodity-board-background-information.pdf.

Dated: September 17, 2025.
Cikena Reid,
USDA Committee Management Officer.

[FR Doc. 2025-18245 Filed 9-19-25; 8:45 am]

BILLING CODE 3420-AG-P